DEPARTMENT OF ENERGY

Federal Energy Regulatory Commission

[Docket No. CP09-175-000]

CenterPoint Energy Gas Transmission Company; Notice of Request Under Blanket Authorization

May 5, 2009.

Take notice that on April 24, 2009, CenterPoint Energy Gas Transmission Company (CEGT), P.O. Box 21734, Shreveport, Louisiana 71151, filed a prior notice request pursuant to parts 157.205 and 157.208 of the Commission's regulations under the Natural Gas Act (NGA) and CEGT's blanket certificate issued in Docket Nos. CP82-384-000 and CP82-384-001, for authorization to construct, own, maintain, and operate a compressor unit and appurtenant facilities at the Searcy Compressor Station located in White County, Arkansas (Searcy Phase II), all as more fully set forth in the application, which is on file with the Commission and open to public inspection. The filing may also be viewed on the Web at http://www.ferc.gov using the “eLibrary” link. Enter the docket number excluding the last three digits in the docket number field to access the document. For assistance, contact FERC at FERCOnlineSupport@ferc.gov or call toll-free, (866) 208-3676 or TTY, (202) 502-8659.

CEGT states that producers in the Fayetteville Shale Basin have requested firm transportation from existing and future receipt points on CEGT's system in northern Arkansas. CEGT asserts that, in order to satisfy this growing demand, CEGT proposes to construct, own, maintain, and operate an additional 2,370 horsepower (HP) unit and associated ancillary equipment. CEGT states that Searcy Phase II will increase the design capacity of the existing interconnection with Texas Gas Transmission, LLC (Texas Gas) from 125,000 dekatherms (Dth) per day to 250,000 Dth per day. CEGT asserts that the estimated cost for the proposed facilities is $9.9 million.

Any questions regarding the application should be directed to Larry Thomas, Director, Rates & Regulatory, CenterPoint Energy Gas Transmission Company, P.O. Box 21734, Shreveport, Louisiana 71151, at (318) 429-2804.

Any person may, within 60 days after the issuance of the instant notice by the Commission, file pursuant to Rule 214 of the Commission's Procedural Rules (18 CFR 385.214) a motion to intervene or notice of intervention. Any person filing to intervene or the Commission's staff may, pursuant to part 157.205 of the Commission's regulations under the NGA (18 CFR 157.205) file a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the Internet in lieu of paper. See 18 CFR 385.2001(a)(1)(iii) and the instructions on the Commission's Web site (http://www.ferc.gov) under the “e-Filing” link.

Kimberly D. Bose,
Secretary.

[FR Doc. E9-11118 Filed 5-12-09; 8:45 am]

BILLING CODE 6717-01-P